DEPARTMENT OF COMMERCE

National Oceanic and Atmospheric Administration

RIN 0648-XA085

Endangered Species; File No. 14400

AGENCY: National Marine Fisheries Service (NMFS), National Oceanic and Atmospheric Administration (NOAA), Commerce.

ACTION: Issuance of permit.

SUMMARY: Notice is hereby given that Channel Islands National Park, 1901 Spinnaker Drive, Ventura, CA 93001 [Responsible Party: Daniel Richards] has been issued a permit to take black abalone for purposes of scientific research and enhancement.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Jennifer Skidmore or Colette Cairns, (301) 713-2289.

SUPPLEMENTARY INFORMATION: On August 27, 2009, notice was published in the Federal Register (74 FR 43679) that a request for a scientific research and enhancement permit to take black abalone (Haliotis cracherodii) had been submitted by the above-named organization. The requested permit has been issued under the authority of the Endangered Species Act of 1973, as amended (ESA; 16 U.S.C. 1531 et seq.) and the regulations governing the taking, importing, and exporting of endangered and threatened species (50 CFR parts 222-226).

This permit authorizes the continued monitoring of black abalone, a species listed as endangered on February 13, 2009. The objective of this monitoring is to identify population trends through population counts and size distribution measurements. Monitoring would consist of only non-lethal take to measure abalone, and at selected sites, tag some individuals to determine survivorship and growth. This permit is valid for five years.

Issuance of this permit, as required by the ESA, was based on a finding that such permit (1) Was applied for in good faith, (2) will not operate to the disadvantage of such endangered or threatened species, and (3) is consistent with the purposes and policies set forth in section 2 of the ESA.

Dated: December 9, 2010.
Tammy C. Adams,
Acting Chief, Permits, Conservation and Education Division, Office of Protected Resources, National Marine Fisheries Service.

[FR Doc. 2010-31520 Filed 12-14-10; 8:45 am]

BILLING CODE 3510-22-P